DEPARTMENT OF HEALTH AND HUMAN SERVICES

Centers for Disease Control and Prevention

[30Day-17-16ATI]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Development of CDC's Act Against AIDS Social Marketing Campaigns Targeting Consumers—New—National Center for HIV/AIDS, Viral Hepatitis, STD, and TB Prevention (NCHHSTP, Centers for Disease Control and Prevention (CDC).

Background and Brief Description

In an effort to refocus attention on domestic HIV and AIDS, CDC launched the Act Against AIDS (AAA) initiative in 2009 with the White House and the U.S. Department of Health and Human Services. AAA is a multifaceted national communication initiative that supports reduction of HIV incidence in the U.S. through multiple, concurrent communication and education campaigns for a variety of audiences including, the general public populations most affected by HIV and health care providers. The campaigns target consumers 18-64 years old and include the following audiences: (1) Men who have sex with men (MSM) of all races; (2) Blacks/African Americans; (3) Hispanics/Latinos; (4) Transgender individuals; (5) HIV-positive individuals; and (6) national audience of all races. All campaigns support the comprehensive HIV prevention efforts of CDC and the National HIV/AIDS Strategy (NHAS).

The goal of this study is to qualitatively test messages and materials that will be used in specific HIV social marketing campaigns under the AAA initiative that target consumers in order to increase HIV testing rates, increase HIV awareness and knowledge, challenge commonly held misperceptions about HIV, and promote HIV prevention and risk reduction. The intended use of the resulting data is for CDC to revise and/or develop timely, relevant, clear, and engaging materials for these social marketing campaigns.

Qualitative methods will be used to collect the data include focus groups, intercept interviews, and in-depth interviews. Qualitative methods provide flexible in-depth exploration of the participants' perceptions and experience; and the interviews yield descriptions in the participants' own words. Qualitative methods also allow the interviewer flexibility to pursue relevant and important issues as they arise during the discussion.

The participants will also participate in a brief 15-minute brief survey. Data collected by the brief survey will provide a source of quantitative data supplementing the qualitative data collected during the interviews. The brief survey will be administered to participants before the individual in-depth interview and focus group. The survey will collect basic background information about the participants' knowledge, attitudes and beliefs about HIV, HIV testing behaviors, risk behaviors and demographics to enable us to more fully describe the participants.

There is no cost to participants other than their time. The total estimated annualized burden hours are 2,063.

Estimated Annualized Burden Hours
Respondents | Form name | Number of respondents | Number of responses per respondent | Average burden per response (in hours)
Individuals (males and females) aged 18-64 | Study screener Exploratory—HIV Testing In-depth Interview Guide | 2338 74 | 1 1 | 2/60 1
| Exploratory—HIV Prevention In-depth Interview Guide | 74 | 1 | 1
| Exploratory—HIV Communication and Awareness In-depth Interview Guide | 74 | 1 | 1
| Exploratory—HIV Prevention with Positives In-depth Interview Guide | 74 | 1 | 1
| Consumer Message Testing In-depth Interview Guide | 68 | 1 | 1
| Consumer Concept Testing In-depth Interview Guide | 68 | 1 | 1
| Consumer Materials Testing In-depth Interview Guide | 68 | 1 | 1
| Exploratory—HIV Testing Focus Group Interview Guide | 74 | 1 | 2
| Exploratory—HIV Prevention Focus Group Interview Guide | 74 | 1 | 2
| Exploratory—HIV Communication and Awareness Focus Group Interview Guide | 74 | 1 | 2
| Exploratory—HIV Prevention with Positives Focus Group Interview Guide | 74 | 1 | 2
| Consumer Concept Testing Focus Group Interview Guide | 68 | 1 | 2
| Consumer Message Testing Focus Group Interview Guide | 68 | 1 | 2
| Consumer Materials Testing Focus Group Interview Guide | 68 | 1 | 2
| HIV Testing Survey | 250 | 1 | 15/60
| HIV Prevention Survey | 250 | 1 | 15/60
| HIV Communication and Awareness Survey | 250 | 1 | 15/60
| HIV Prevention with Positives Survey | 250 | 1 | 15/60
| Intercept Interview Guide | 700 | 1 | 20/60

Leroy A. Richardson,
Chief, Information Collection Review Office, Office of Scientific Integrity, Office of the Associate Director for Science, Office of the Director, Centers for Disease Control and Prevention.

[FR Doc. 2016-30408 Filed 12-16-16; 8:45 am]

BILLING CODE 4163-18-P